DEPARTMENT OF LABOR

Employment and Training Administration

[TA-W-85,000]

Johnson Controls, Inc., Building Efficiency Division, Large Tonnage Water Chiller Assembly and Fabrication Including Workers Paid Through York International and Including On-Site Leased Workers From VIP Personnel Services San Antonio, Texas; Amended Certification Regarding Eligibility To Apply for Worker Adjustment Assistance and Alternative Trade Adjustment Assistance

In accordance with Section 223 of the Trade Act of 1974, as amended (“Act”), 19 U.S.C. 2273, the Department of Labor issued a Certification of Eligibility to Apply for Worker Adjustment Assistance on February 28, 2014, applicable to workers of Johnson Controls, Inc., Building Efficiency Division, Large Tonnage and Water Chiller Assembly and Fabrication, including on-site leased workers from VIP Personnel Services, San Antonio, Texas. The workers are engaged in activities related to the production of large tonnage water chillers. The notice was published in the Federal Register on March 14, 2014 (79 FR 14540).

At the request of a state workforce official, the Department reviewed the certification for workers of the subject firm. New information from the company shows that workers were paid through York International, a subsidiary of Johnson Controls, Inc.

The intent of the Department's certification is to include all workers of the subject firm who were adversely affected by a shift in production to a foreign country that is party to a free trade agreement and who were paid through York International.

The amended notice applicable to TA-W-85,000 is hereby issued as follows:

All workers of Johnson Controls, Inc., Building Efficiency Division, Large Tonnage and Water Chiller Assembly and Fabrication, including workers paid through York International and including on-site leased workers from VIP Personnel Services, San Antonio, Texas, who became totally or partially separated from employment on or after January 2, 2013, through February 28, 2016 are eligible to apply for adjustment assistance under Chapter 2 of Title II of the Trade Act of 1974, as amended, and are also eligible to apply for alternative trade adjustment assistance under Section 246 of the Trade Act of 1974, as amended.

Signed at Washington, DC, this 1st day of April 2014.
Michael W. Jaffe,
Certifying Officer, Office of Trade Adjustment Assistance.

[FR Doc. 2014-08296 Filed 4-11-14; 8:45 am]

BILLING CODE 4510-FN-P